DEPARTMENT OF VETERANS AFFAIRS

[OMB Control No. 2900-0674]

Agency Information Collection Activity Under OMB Review: Notice of Disagreement: Appeal to the Board of Veterans' Appeals

AGENCY: Board of Veterans' Appeals, Department of Veterans Affairs.

ACTION: Notice.

SUMMARY: In compliance with the Paperwork Reduction Act (PRA) of 1995, this notice announces that the Board of Veterans' Appeals (BVA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0674.”

FOR FURTHER INFORMATION CONTACT: Maribel Aponte, Office of Enterprise and Integration, Data Governance Analytics (008), 1717 H Street NW, Washington, DC 20006, (202) 266-4688 or email maribel.aponte@va.gov. Please refer to “OMB Control No. 2900-0674” in any correspondence.

SUPPLEMENTARY INFORMATION: Authority: Public Law 115-55; 38 U.S.C. 5104B, 5108, 5701, 5901, 7103, 7104, 7105, 7107.

Title: Decision Review Request: Board Appeal (Notice of Disagreement) and Appeal to the Board of Veterans' Appeals, VA Form 10182 and VA Form 9.

OMB Control Number: 2900-0674.

Type of Review: Revision of a currently approved collection.

Abstract: Appellate review of the denial of VA benefits may only be initiated by the filing of a Notice of Disagreement with the Board. 38 U.S.C. 7105(a). VA Form 10182 Decision Review Request: Board Appeal (Notice of Disagreement) is required to initiate Board review of an appeal in the modernized review system as implemented by the Veterans Appeals Improvement and Modernization Act of 2017 (AMA). The VA Form 9 Appeal to Board of Veterans' Appeals may be used to complete a legacy appeal to the Board. The completed form becomes the “substantive appeal” (or “formal appeal”), which is required by the pre-AMA version of 38 U.S.C. 7105(a) and (d)(3) to complete an appeal to the Board. Additionally, the proposed information collections allow for withdrawal of services by a representative, requests for changes in hearing dates and methods under 38 U.S.C. 7107, and motions for reconsideration pursuant to 38 U.S.C. 7103(a).

The Board is requesting to revise the currently approved OMB Control No. 2900-0674 to include an updated VA Form 10182 Notice of Disagreement. Proposed revisions to the VA Form 10182 Notice of Disagreement include: (1) Removal of the requirement to provide a social security number; (2) inclusion of checkboxes to indicate a preferred method of hearing; (3) inclusion of a checkbox to indicate whether the decision for which appeal is being sought was issued by the Veterans Health Administration (VHA); (4) provision of a list of examples of common issues a claimant may disagree with including service connection, disability evaluation, or and effective date of award; (5) inclusion of a checkbox to request an extension of the deadline to file a Notice of Disagreement; (6) removal of the checkbox used to indicate whether the Notice of Disagreement has been filed in response to a Statement of the Case or Supplemental Statement of the Case issued under the legacy appeals process; (7) replacement of the checkbox for indicating the claimant “is homeless” to indicate whether the claimant is “experiencing homelessness”; (8) a clarified description of the window of time within which to submit evidence on the Evidence Submission docket; and (9) adding a subpart to Part III for issues the appellant wishes to include in the VA Form 10182 that need to be listed on additional sheets. Proposed revisions also include updated instructions for completing the Notice of Disagreement.

There is a decrease in the respondent burden because the associated control number originally included the nonstandard legacy Notice of Disagreement. Consistent with the wind-down of legacy appeals following implementation of the AMA, the Board is not seeking renewal of the nonstandard legacy Notice of Disagreement under this control number.

An agency may not conduct or sponsor, and a person is not required to respond to a collection of information, unless it displays a currently valid OMB control number. The Federal Register Notice with a 60-day comment period soliciting comments on this collection of information was published at 86 FR 217 on November 15, 2021, pages 63107 and 63108.

Affected Public: Individuals and households.

Estimated Annual Burden: 64,805 hours.

Estimated Average Burden per Respondent: 37 minutes.

Frequency of Response: Once.

Estimated Number of Respondents: 126,000.

By direction of the Secretary.
Maribel Aponte,
VA PRA Clearance Officer, Office of Enterprise and Integration, Data Governance Analytics, Department of Veterans Affairs.

[FR Doc. 2022-01677 Filed 1-27-22; 8:45 am]

BILLING CODE 8320-01-P